DEPARTMENT OF COMMERCE

International Trade Administration

Battelle Memorial Institute, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Avenue., NW., Washington, DC.

Docket Number: 10-045. Applicant: Battelle Memorial Institute, Richland, WA 99354. Instrument: Electron Microscope. Manufacturer: FEI Company, the Netherlands. Intended Use: See notice at 76 FR 11199, March 1, 2011.

Docket Number: 10-072. Applicant: University of Puerto Rico, San Juan, PR 00936-5067. Instrument: Electron Microscope. Manufacturer: JEOL, Ltd., Japan. Intended Use: See notice at 76 FR 11199, March 1, 2011.

Docket Number: 10-076. Applicant: Regents of the University of Minnesota, Minneapolis, MN 55455. Instrument: Electron Microscope. Manufacturer: FEI Inc., Czech Republic. Intended Use: See notice at 76 FR 11199, March 1, 2011.

Docket Number: 11-002. Applicant: Weill Cornell Medical College of Cornell University, New York, NY 10065. Instrument: Electron Microscope. Manufacturer: JEOL Ltd., Japan. Intended Use: See notice at 76 FR 11199, March 1, 2011.

Docket Number: 11-003. Applicant: Armed Forces Institute of Pathology, Washington, DC 20306-6000. Instrument: Electron Microscope. Manufacturer: JEOL Ltd., Japan. Intended Use: See notice at 76 FR 11199, March 1, 2011.

Docket Number: 11-004. Applicant: San Diego State University, San Diego, CA 92182. Instrument: Electron Microscope. Manufacturer: FEI Inc., Czech Republic. Intended Use: See notice at 76 FR 11199, March 1, 2011.

Docket Number: 11-005. Applicant: National Institute of Standards and Technology, Boulder, CO 80305-3328. Instrument: Electron Microscope. Manufacturer: JEOL Ltd., Japan. Intended Use: See notice at 76 FR 11199, March 1, 2011.

Docket Number: 11-006. Applicant: University of Vermont, Colchester, VT 65446. Instrument: Electron Microscope. Manufacturer: JEOL Ltd., Japan. Intended Use: See notice at 76 FR 11199, March 1, 2011.

Docket Number: 11-007. Applicant: University of Arkansas, Fayetteville, AR 72701. Instrument: Electron Microscope. Manufacturer: FEI Inc., the Netherlands. Intended Use: See notice at 76 FR 11199, March 1, 2011.

Docket Number: 11-015. Applicant: The Regents of the University of California, Berkeley, CA 94720. Instrument: Electron Microscope. Manufacturer: Carl Zeiss SMT, Inc., Germany. Intended Use: See notice at 76 FR 11199, March 1, 2011.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: March 22, 2011.
Gregory W. Campbell,
Director, Subsidies Enforcement Office, Import Administration.

[FR Doc. 2011-7226 Filed 3-28-11; 8:45 am]

BILLING CODE 3510-DS-P